DEPARTMENT OF ENERGY

Federal Energy Regulatory Commission

Combined Notice of Filings

Take notice that the Commission has received the following Natural Gas Pipeline Rate and Refund Report filings:

Filings Instituting Proceedings

Docket Numbers: PR15-42-000.

Applicants: TPL SouthTex Transmission Company LP.

Description: Submits tariff filing per 284.123(e)/.224: Filing of Revised Operating Statement to be effective9/1/2015 Filing Type: 770.

Filed Date: 8/27/15.

Accession Number: 20150827-5161.

Comments/Protests Due: 5 p.m. ET 9/17/15.

Docket Numbers: PR15-43-000.

Applicants: Enable Illinois Intrastate Transmission, LLC.

Description: Submits tariff filing per 284.123(e)/.224: 2015 Housekeeping to be effective 9/28/2015; Filing Type: 770.

Filed Date: 8/27/15.

Accession Number: 20150827-5288.

Comments/Protests Due: 5 p.m. ET9/17/15.

Docket Numbers: RP15-1209-000.

Applicants: Enable Mississippi River Transmission, L.

Description: Section 4(d) Rate Filing: 2015 Housekeeping Filing to be effective 9/28/2015.

Filed Date: 8/26/15.

Accession Number: 20150826-5114.

Comments Due: 5 p.m. ET 9/8/15.

Docket Numbers: RP15-1210-000.

Applicants: Northwest Pipeline LLC.

Description: Section 4(d) Rate Filing: 2015 Winter Fuel Filing to be effective 10/1/2015.

Filed Date: 8/26/15.

Accession Number: 20150826-5132.

Comments Due: 5 p.m. ET 9/8/15.

Docket Numbers: RP15-1211-000.

Applicants: Northern Natural Gas Company.

Description: Section 4(d) Rate Filing: 20150826 Negotiated Rate to be effective 9/1/2015.

Filed Date: 8/27/15.

Accession Number: 20150827-5064.

Comments Due: 5 p.m. ET 9/8/15.

Docket Numbers: RP15-1212-000.

Applicants: Transcontinental Gas Pipe Line Company.

Description: Section 4(d) Rate Filing: Cash Out Reference Spot Prices to be effective 10/1/2015.

Filed Date: 8/27/15.

Accession Number: 20150827-5084.

Comments Due: 5 p.m. ET 9/8/15.

Docket Numbers: RP15-1213-000.

Applicants: Alliance Pipeline L.P.

Description: Section 4(d) Rate Filing: September 1-30 2015 Auction to be effective 9/1/2015.

Filed Date: 8/27/15.

Accession Number: 20150827-5108.

Comments Due: 5 p.m. ET 9/8/15.

Docket Numbers: RP15-1214-000.

Applicants: Florida Gas Transmission Company, LLC.

Description: Section 4(d) Rate Filing: Fuel Filing on 8-27-15 to be effective 10/1/2015.

Filed Date: 8/27/15.

Accession Number: 20150827-5123.

Comments Due: 5 p.m. ET 9/8/15.

Docket Numbers: RP15-1215-000.

Applicants: El Paso Natural Gas Company, L.L.C.

Description: Section 4(d) Rate Filing: Negotiated Rate Agreement Update (APS Sept 2015) to be effective9/1/2015.

Filed Date: 8/27/15.

Accession Number: 20150827-5210.

Comments Due: 5 p.m. ET 9/8/15.

Docket Numbers: RP15-1216-000.

Applicants: El Paso Natural Gas Company, L.L.C.

Description: Section 4(d) Rate Filing: Park and Loan Locations Filing to be effective 10/1/2015.

Filed Date: 8/27/15.

Accession Number: 20150827-5215.

Comments Due: 5 p.m. ET 9/8/15.

Docket Numbers: RP15-1217-000.

Applicants: Algonquin Gas Transmission, LLC.

Description: Section 4(d) Rate Filing: Exhibit A Filing to be effective10/1/2015.

Filed Date: 8/27/15.

Accession Number: 20150827-5217.

Comments Due: 5 p.m. ET 9/8/15.

Docket Numbers: RP15-1219-000.

Applicants: National Fuel Gas Supply Corporation.

Description: Section 4(d) Rate Filing: Non-Conforming (Range Resources) to be effective 9/1/2015.

Filed Date: 8/27/15.

Accession Number: 20150827-5277.

Comments Due: 5 p.m. ET 9/8/15.

Docket Numbers: RP15-1220-000.

Applicants: Transcontinental Gas Pipe Line Company.

Description: Section 4(d) Rate Filing: Negotiated Rates—Cherokee AGL—Replacement Shippers—Sep 2015 to be effective 9/1/2015.

Filed Date: 8/28/15.

Accession Number: 20150828-5000.

Comments Due: 5 p.m. ET 9/9/15.

Docket Numbers: RP15-1221-000.

Applicants: Panhandle Eastern Pipe Line Company, LP.

Description: Section 4(d) Rate Filing: Negotiated Rates Filing on 8-28-15 to be effective 9/1/2015.

Filed Date: 8/28/15.

Accession Number: 20150828-5054.

Comments Due: 5 p.m. ET 9/9/15.

Docket Numbers: RP15-1222-000.

Applicants: Algonquin Gas Transmission, LLC.

Description: Section 4(d) Rate Filing: BBPC 2015-09-01 Releases to EDF Trading to be effective 9/1/2015.

Filed Date: 8/28/15.

Accession Number: 20150828-5059.

Comments Due: 5 p.m. ET 9/9/15.

Docket Numbers: RP15-1223-000.

Applicants: Ruby Pipeline, L.L.C.

Description: Section 4(d) Rate Filing: FL&U and EPC to be effective 10/1/15 to be effective 10/1/2015.

Filed Date: 8/28/15.

Accession Number: 20150828-5078.

Comments Due: 5 p.m. ET 9/9/15.

Docket Numbers: RP15-1224-000.

Applicants: Dominion Transmission, Inc.

Description: Section 4(d) Rate Filing: DTI—August 28, 2015 Negotiated Rate Agreement to be effective 9/1/2015.

Filed Date: 8/28/15.

Accession Number: 20150828-5121.

Comments Due: 5 p.m. ET 9/9/15.

Docket Numbers: RP15-1226-000.

Applicants: MarkWest Pioneer, L.L.C.

Description: Section 4(d) Rate Filing: Quarterly FRP Filing to be effective10/1/2015.

Filed Date: 8/28/15.

Accession Number: 20150828-5165.

Comments Due: 5 p.m. ET 9/9/15.

Docket Numbers: RP15-1227-000.

Applicants: Dominion Carolina Gas Transmission, LLC.

Description: 2015 Penalty Revenue Sharing Report of Dominion Carolina Gas Transmission, LLC under RP15-1227.

Filed Date: 8/28/15.

Accession Number: 20150828-5235.

Comments Due: 5 p.m. ET 9/9/15.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-1182-001.

Applicants: Enable Gas Transmission, LLC.

Description: Compliance filing RP15-1182 filing for Record 36 to be effective 9/14/2015.

Filed Date: 8/28/15.

Accession Number: 20150828-5257.

Comments Due: 5 p.m. ET 9/9/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2015.
Nathaniel J. Davis, Sr.,
Deputy Secretary.

[FR Doc. 2015-23010 Filed 9-11-15; 8:45 am]

BILLING CODE 6717-01-P